DEPARTMENT OF AGRICULTURE

Forest Service

Lyon & Mineral Resource Advisory Committee

AGENCY: Forest Service, USDA.

ACTION: Notice of meeting.

SUMMARY: The Lyon & Mineral Resource Advisory Committee will meet in Yerington, Nevada. The committee is meeting as authorized under the Secure Rural Schools and Community Self-Determination Act (Pub. L 110-343) and in compliance with the Federal Advisory Committee Act. The purpose of the committee is to improve collaborative relationships and to provide advice and recommendations to the Forest Service concerning projects and funding consisent with Title II of the Act. The meeting is open to the public. The purpose of the meeting is to recommend projects for the use of Title II funds to the deciding official.

DATES: The meeting will be held September 25th, 2012 at 10 a.m.

ADDRESSES: The meeting will be held at the Commissioners Meeting Room, Lyon County Administration Complex, 27 South Main Street, Yerington, Nevada. Written comments should be sent to Mike Crawley, Bridgeport Ranger District, Humboldt-Toiyabe National Forest, HC 62 Box 1000, Bridgeport, CA 93517. Comments may also be sent via email to mcrawley@fs.fed.us, or via facsimile to 760-932-5899.

All comments, including names and addresses when provided, are placed in the record and are available for public inspection and copying. The public may inspect comments received at http://fs.usda.gov/goto/htnf/rac.

FOR FURTHER INFORMATION CONTACT: Mike Crawley, RAC Designated Federal Official, Bridgeport Ranger District, Humboldt-Toiyabe National Forest, 760-932-7070. Individuals who use telecommunication devices for the deaf (TDD) may call the Federal Information Relay Service (FIRS) at 1-800-877-8339 between 8:00 a.m. and 8:00 p.m., Eastern Standard Time, Monday through Friday.

SUPPLEMENTARY INFORMATION: The following business will be conducted on the September 25, 2012 meeting: (1) Discussion of recommendations for Title II projects. (2) Public Comment. Persons who wish to bring related matters to the attention of the Committee may file written statements with the Committee staff before or after the meeting. The agenda will include time for people to make oral statements of three minutes or less. Individuals wishing to make an oral statement should request in writing by September 18th to be scheduled on the agenda. Written comments and requests for time for oral comments must be sent to Bridgeport Ranger District, Humboldt-Toiyabe National Forest, HC 62 Box 1000, Bridgeport, CA 93517, or by email to mcrawley@fs.fed.us or via facsimile to 760-932-5899.

Dated: September 6, 2012.
Stephaine A. Phillips,
Deputy Forest Supervisor, Humboldt-Toiyabe National Forest.

[FR Doc. 2012-22414 Filed 9-11-12; 8:45 am]

BILLING CODE 3410-11-P